OKLAHOMA CITY NATIONAL MEMORIAL TRUST

36 CFR Chapter XV

Rules and Regulations for Oklahoma City National Memorial

AGENCY: Oklahoma City National Memorial Trust.

ACTION: Final rule.

SUMMARY: The Oklahoma City National Memorial Trust will adopt and enforce those rules and regulations that are applicable to the operation of the National Park System and that may be necessary and appropriate to carry out its duties and responsibilities under the Oklahoma City National Memorial Act of 1997. This rule will enable the Trust to safely and efficiently operate the Memorial by establishing general provisions, regulations for resource protection and public use, vehicles and traffic safety, and commercial and private operations. Public comment was invited on the proposed rule and was considered by the Trust in creating this final rule. No public comments were received by the Trust.

DATES: Effective Date: April 18, 2000.

ADDRESSES: The text of 36 CFR chapters I and XV may be viewed at the office of the Oklahoma City National Memorial Trust, One Leadership Square, Suite 150, Oklahoma City, OK 73102.

FOR FURTHER INFORMATION CONTACT: Kari Watkins, 405-235-3313.

SUPPLEMENTARY INFORMATION:

Background

The Oklahoma City National Memorial Act of 1997 (Public Law 105-58, October 9, 1997) establishes (1) the Oklahoma City National Memorial in Oklahoma City as a unit of the National Park System and (2) the Oklahoma City National Memorial Trust as a wholly owned government corporation to administer the memorial in cooperation with the Secretary of Interior in accordance with laws governing units of the National Park System. At the request of the Trust, the Secretary of Interior is required to provide, for a period not to exceed two years, personnel and technical expertise. A superintendent is assigned to coordinate National Park Service (NPS) assistance to the Trust. Also at the Trust's request, NPS is required to provide uniformed personnel to carry out day-to-day visitor service programs on a reimbursable basis.

Statutory Authority

The Oklahoma City National Memorial Trust is a wholly owned government corporation created by the Oklahoma City National Memorial Act, Public Law 105-58 (Act). Pursuant to section 4 of the Act, the Trust administers the Memorial, which is comprised of the lands, facilities, and structures within the boundaries depicted on the map referenced in the statute.

Section 6(g) of the Act enables the Trust to

Adopt, amend, repeal, and enforce bylaws, rules and regulations governing the manner in which its business may be conducted and the powers vested in it may be exercised. The Trust is authorized, in consultation with the Secretary [of the Interior], to adopt and to enforce those rules and regulations that are applicable to the operation of the National Park System and that may be necessary and appropriate to carry out its duties and responsibilities under this Act.

Consistent with that authority, and in order to protect, preserve, and operate the Memorial, the Trust created this rule concerning resource protection and public use; vehicles and traffic safety; and commercial and private operations.

Title 36 of the Code of Federal Regulations (CFR) chapter I, parts 1, 2, 4, and 5 already govern the management and activities within the units of the National Park System throughout the United States. The Trust recognizes the national scope and inherent continuity of 36 CFR, its necessity within the National Park System, and therefore, adopts those regulations that are relevant and applicable to the Memorial. In an attempt to keep the regulations clear and concise, the Trust has excluded those portions of the existing regulations that are not applicable and would have no bearing on the management or protection of the Memorial.

Consultation

Prior to proposing these regulations, the Trust consulted with the Secretary of the Interior's designee, the National Park Service Director, Intermountain Region, who serves on the Trust's Board of Directors pursuant to section 6(g) of the Act. The Director, Intermountain Region facilitated the advisory process by providing direct access to officials in the National Park Service and the National Park Service Solicitor's Office.

Discussion of Comments on Proposed Rule

The Trust provided for a public comment period of 30 days on these regulations. The Proposed Rule was published in the Federal Register on February 16, 2000 (FR Volume 65, Number 32, Pages 8010-8011). No public comments on the proposed rules were received. Since no comments were received, no amendments were made to the proposed regulations.

Related Documents

The entire regulations and their respective environmental assessment may be found at the Trust's internet website (www.oklahoman.net/connections/memorial). A written copy of the regulations and 36 CFR is available for review at the Trust's office at One Leadership Square, Suite 150, Oklahoma City, OK 73102.

Regulatory Impact

This rulemaking does not have an annual effect of $100 million or more on the economy nor adversely affect productivity, competition, jobs, prices, the environment, public health or safety, or State or local governments. These rules do not interfere with an action taken or planned by another agency or raise new legal or policy issues. In short, little or no effect on the national economy will result from adoption of this rule. Because this rule is not economically significant, it is not subject to review by the Office of Management and Budget under Executive Order 12866.

The Trust has determined and certifies pursuant to the Regulatory Flexibility Act, 5 U.S.C. 601 et seq., that this rule does not have a significant economic effect on a substantial number of small entities. This rule is not a major rule within the meaning of the Congressional Review Act, 5 U.S.C. 801 et seq.

Environmental Impact

The Trust prepared an Environmental Assessment (EA) in connection with the proposed version of this rule. The EA determined that the rule would not have a significant effect on the quality of the human environment because it is neither intended nor expected to change the physical status quo of the Memorial in any significant manner. The EA was prepared in accordance with the National Environmental Policy Act of 1969, 42 U.S.C. 4321 et seq. The EA is available for public inspection at the office of the Trust, One Leadership Square, Suite 150, Oklahoma City, OK 73102 or on the Trust's internet website (www.oklahoman.net/connections/memorial).

Environmental consequences include the enhanced protection of the Memorial through the ability of the Trust's required rulemaking authority to regulate and maintain the Memorial as a unit of the National Park System. The regulations enable the Trust to adequately manage and protect the natural, cultural, and historic resources of the Memorial as well as the safe and efficient management of the Memorial's public use. No long term adverse effects are expected on the natural or cultural environment, and constructive manage of the use of the historic Journal Record building will ensure its long-term preservation.

The memorial site is in an urban business district, and nearby buildings include two churches, business offices, the post office, federal courthouse, and a high-rise apartment complex. Adoption of the regulations would have no effect on these properties or other elements of the socioeconomic environment. There will be no disproportionately high or adverse human health or environmental effects on minority populations, low-income populations, or Indian tribes from the proposal. An alternative to adopting these regulations is the no-action alternative. This would require the Trust to adopt no regulations for the Memorial. This would result in the inefficient management of the Memorial, which would hinder the ability of the Trust to protect the visitors, their experience at the Memorial, and the natural and cultural environment. The no-action alternative is in opposition to the purpose and guidance of the Memorial's enabling legislation.

List of Subjects in 36 CFR Part 1501

Monuments and memorials.

For the reasons set forth in the preamble, a new chapter XV is established in title 36 of the Code of Federal Regulations consisting of part 1501 to read as follows:

CHAPTER XV—OKLAHOMA CITY NATIONAL MEMORIAL TRUST

PART 1501—GENERAL PROVISIONS

§ 1501.1 Cross reference to National Park Service regulations.

As permitted by the Oklahoma City National Memorial Act, the Oklahoma City National Memorial Trust (the Trust) adopts by cross reference the provisions of the National Park Service in 36 CFR chapter I as shown in the following table. The table also indicates those parts, sections, and paragraphs that the Trust has chosen to exclude from adoption.

National Park Service Regulations

36 CFR Chapter I

Excluding parts 3 and 6-199

PART 1 GENERAL PROVISIONS

§ 1.1 Purpose

§ 1.2 Applicability and Scope

§ 1.3 Penalties

Excluding paragraphs (b) and (c)

§ 1.4 Definitions

Excluding paragraph (b)

§ 1.5 Closures and public use limits

§ 1.6 Permits

§ 1.7 Public Notice

§ 1.8 Information Collection

§ 1.10 Symbolic Signs

PART 2 RESOURCE PROTECTION, PUBLIC USE AND RECREATION

Excluding §§ 2.3, 2.16, 2.19, 2.60

§ 2.1 Preservation of natural and cultural and archeological resources

§ 2.2 Wildlife Protection

Excluding paragraphs (b), (c), and (d)

§ 2.4 Weapons, traps, and nets

Excluding paragraph (a)(2)

§ 2.5 Research specimens

§ 2.10 Camping and food storage

Excluding paragraphs (b)(1), (b)(2), (b)(3), (b)(4), (b)(6), (b)(8), and (d)

§ 2.11 Picnicking

§ 2.12 Audio Disturbances

Excluding paragraph (a)(3)

§ 2.13 Fires

Excluding paragraph (c)

§ 2.14 Sanitation and refuse

Excluding paragraphs (a)(7) and (a)(9)

§ 2.15 Pets

Excluding paragraphs (b) and (e)

§ 2.17 Aircraft and air delivery

Excluding paragraph (a)(2)

§ 2.18 Snowmobiles

Excluding paragraphs (d) and (e)

§ 2.20 Skating, skateboards and similar devices

§ 2.21 Smoking

Excluding paragraph (b)

§ 2.22 Property

§ 2.23 Recreation fees

Excluding paragraph (a)

§ 2.30 Misappropriation of property and services

§ 2.31 Trespassing, tampering and vandalism

§ 2.32 Interfering with agency functions

§ 2.33 Report of injury or damage

§ 2.34 Disorderly conduct

§ 2.35 Alcoholic beverages and controlled substances

§ 2.36 Gambling

§ 2.37 Noncommercial soliciting

§ 2.38 Explosives

§ 2.50 Special events

§ 2.51 Public assemblies, meetings

§ 2.52 Sale or distribution of printed matter

§ 2.61 Residing on Federal lands

§ 2.62 Memorialization

PART 4 VEHICLES AND TRAFFIC SAFETY

§ 4.1 Applicability and scope

§ 4.2 State law applicable

§ 4.3 Authorized emergency vehicles

§ 4.4 Report of motor vehicle accident

§ 4.10 Travel on park roads and designated routes

Excluding paragraph (c)(3)

§ 4.11 Load, weight and size limits

§ 4.12 Traffic control devices

§ 4.13 Obstructing traffic

§ 4.14 Open container of alcoholic beverage

§ 4.15 Safety belts

§ 4.20 Right of way

§ 4.21 Speed limits

Excluding paragraphs (a)(2) and (a)(3)

§ 4.22 Unsafe operation

§ 4.23 Operating under the influence of alcohol or drugs

§ 4.30 Bicycles

§ 4.31 Hitchhiking

PART 5 COMMERCIAL AND PRIVATE OPERATIONS

Excluding §§ 5.4, 5.9, and 5.10

§ 5.1 Advertisements

§ 5.2 Alcoholic beverages; sale of intoxicants

Excluding paragraph (b)

§ 5.3 Business operations

§ 5.5 Commercial photography

§ 5.6 Commercial vehicles

§ 5.7 Construction of buildings or other facilities

§ 5.8 Discrimination in employment practices

§ 5.13 Nuisances

§ 5.14 Prospecting, mining, and mineral leasing

Authority: 16 U.S.C. 450ss; Pub. L. 105-58, 111 Stat. 1261.

Dated: March 14, 2000.
Robert M. Johnson,
Chairman.

[FR Doc. 00-6797 Filed 3-15-00; 2:08 pm]

BILLING CODE 8710-01-U